DEPARTMENT OF JUSTICE

Antitrust Division

Notice Pursuant to the National Cooperative Research and Production Act of 1993—VSI Alliance

Notice is hereby given that, on October 10, 2003, pursuant to Section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Richard Brown (individual member), Ann Arbor, MI; Ramesh Chandra (individual member), San Diego, CA; LTRIM Technologies, Inc., Laval, Quebec, CANADA; Michael McCorquodale (individual member), Ann Arbor, MI; Morpho Technologies, Irvine, CA; and Xignal Technologies AG, Unterhaching, GERMANY have been added as parties to this venture.

Also, 0-In Design Automation, Inc., San Jose, CA; Beijing Hongsi Electronic Technology Co., Ltd., Hai Dian, PEOPLE's REPUBLIC OF CHINA; Global UniChip Corp., Hsinchu Science Park, TAIWAN; Intellitech Corp., Durham, NH; NOKIA, Tokyo, JAPAN; NurLogic Design, Inc., San Diego, CA; Cyril Rayan (individual member), San Jose, CA; and X-Vein, Tokyo, JAPAN have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on July 9, 2003. A notice was published in the Federal Register pursuant to Section 6(b) of the Act on August 29, 2003 (68 FR 44367).

Dorothy B. Fountain,
Deputy Director of Operations Antitrust Division.

[FR Doc. 03-28286 Filed 11-10-03; 8:45 am]

BILLING CODE 4410-11-M